DEPARTMENT OF JUSTICE

[OMB Number 1121-0243]

Agency Information Collection Activities; Proposed eCollection eComments Requested; Extension Without Change of a Currently Approved Collection: Grants Management System (JustGrants System)

AGENCY: Office of Justice Programs, Department of Justice.

ACTION: 30-Day notice.

SUMMARY: The Department of Justice (DOJ), Office of Justice Programs, Office of Justice Programs, will be submitting the following information collection request to the Office of Management and Budget (OMB) for review and approval in accordance with the Paperwork Reduction Act of 1995.

DATES: Comments are encouraged and will be accepted for 30 days until November 24, 2021.

FOR FURTHER INFORMATION CONTACT: If you have additional comments especially on the estimated public burden or associated response time, suggestions, or need a copy of the proposed information collection instrument with instructions or additional information, please contact Jennifer Yeh, (202) 532-5929, Acting Deputy Director, Office of Audit, Assessment, and Management, Office of Justice Programs, Department of Justice, 810 7th Street NW, Washington, DC 20530.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension without change of a currently approved collection; non-substantive name change.

(2) The Title of the Form/Collection: The existing title is the Community Partnership Grants Management System. Going forward, this collection will be referred to as the JustGrants System collection. The JustGrants System is the successor system to the Community Partnership Grants Management System, and encompasses and replaces the functionality of the latter.

(3) The agency form number, if any, and the applicable component of the Department sponsoring the collection: NA. The applicable component within the Department of Justice is Office of Audit, Assessment, and Management, in the Office of Justice Programs.

(4) Affected public who will be asked or required to respond, as well as a brief abstract: The primary respondents are state, local, and tribal governments, institutions of higher education, non-profit organizations, and other organizations applying for DOJ grants. JustGrants is a web-based grants applications system and award management system. It provides automated support throughout the award lifecycle, and facilitates reporting to Congress and other interested agencies. The system stores essential information required to comply with the Federal Funding Accountability and Transparency Act of 2006 (FFATA). JustGrants has also been designated the OJP official system of record for grants activities by the National Archives and Records Administration (NARA).

(5) An Estimate of the Total Number of Respondents and the Amount of Time Estimated for an Average Respondent to Respond: An estimated 57,945 organizations will respond to the collections under JustGrants and on average it will take each of them from .17 to 9 hours to complete various award lifecycle processes within the system, varying from application submission, award management and reporting, and award closeout (a total average of 29.17 hours for all processes).

(6) An Estimate of the Total Public Burden (in hours) Associated with the collection: The estimated public burden associated with this application is 160,528 hours.

If additional information is required contact: Melody Braswell, Department Clearance Officer, United States Department of Justice, Justice Management Division, Policy and Planning Staff, Two Constitution Square, 145 N Street NE, 3E.405B, Washington, DC 20530.

Dated: October 20, 2021.
Melody Braswell,
Department Clearance Officer for PRA, U.S. Department of Justice.

[FR Doc. 2021-23209 Filed 10-22-21; 8:45 am]

BILLING CODE 4410-18-P